DEPARTMENT OF THE INTERIOR

Bureau of Land Management

[LLWYP07000; L16100000.DU0000]

Notice of Availability of the Draft Buffalo Resource Management Plan Amendment for the Fortification Creek Planning Area and Environmental Assessment, Wyoming

AGENCY: Bureau of Land Management, Interior.

ACTION: Notice of Availability.

SUMMARY: In accordance with the National Environmental Policy Act of 1969, as amended, and the Federal Land Policy and Management Act of 1976, as amended, the Bureau of Land Management (BLM) has prepared a Draft Resource Management Plan Amendment and Environmental Assessment (RMPA/EA) for the Buffalo Field Office (BFO) and by this notice is announcing the opening of the comment period. The RMPA/EA will amend the 1985 Buffalo Resource Management Plan. The BLM also announces the availability of information regarding a proposed Area of Critical Environmental Concern (ACEC) considered in the Draft RMPA/EA.

DATES: The BLM must receive written comments on the Draft RMPA/EA and on the proposed ACEC information within 60 days following the date that this Notice of Availability appears in the Federal Register.

ADDRESSES: You may submit comments related to the Draft RMPA/EA by any of the following methods:

• Web site: http://www.blm.gov/wy/st/en/info/NEPA/bfodocs/fortification_creek.html.

• E-mail: Fort_Crk_WYMail@blm.gov.

• Fax: (307) 684-1122.

• Mail: Buffalo RMP Amendment/Fortification Creek EA, BLM Buffalo Field Office, 1425 Fort Street, Buffalo, Wyoming 82834.

Copies of the Draft RMPA/EA are available in the Buffalo Field Office at the above address and at the following location:

• Bureau of Land Management, Wyoming State Office, 5353 Yellowstone Road, Cheyenne, Wyoming 82003.

FOR FURTHER INFORMATION CONTACT: For further information contact Thomas Bills, Buffalo RMPA Team Leader, telephone at 307-684-1133; mailing address at BLM Buffalo Field Office, 1425 Fort Street, Buffalo, Wyoming 82834; e-mail at tom_bills@blm.gov.

SUPPLEMENTARY INFORMATION: The Fortification Creek Planning Area (FCPA) is described as requiring “special management” in the Powder River Basin Oil and Gas Project Environmental Impact Statement (PRB EIS). The FCPA also contains an isolated elk herd, a Wilderness Study Area (WSA) and a citizen-proposed ACEC. The FCPA is 100,655 acres in size and located in the center of the Powder River Basin in parts of Campbell, Johnson, and Sheridan Counties, Wyoming.

An RMP amendment has been initiated to simplify, consolidate and unify overlapping planning decisions in the FCPA while ensuring the viability of the existing elk herd and maintaining other management activities in the planning area.

The Draft RMPA/EA documents the direct, indirect, and cumulative environmental impacts of three alternatives for management of BLM-administered public lands and mineral resources within the Fortification Creek Area of the BFO. The alternatives incorporate best management practices for oil and gas development and other measures necessary to address impacts to transportation, public safety, cultural resources, recreational opportunities, wildlife, threatened and endangered species, visual resources, air quality, wilderness characteristics, and other relevant issues. The following descriptions of alternatives considered in the Draft RMPA/EA have been included to provide context for reviewers. Three alternatives are analyzed in detail:

Alternative 1 (No Action Alternative): Continues the existing management direction in conformance with the current RMP and would not designate an ACEC in the FCPA;

Alternative 2: Amends the existing RMP to allow overhead power lines on BLM surface within pre-defined corridors, applies elk security habitat standards as recommended by the Wyoming Game and Fish Department (WGFD), prescribes acceptable mitigation measures, and would designate an ACEC based on citizen proposed boundaries (33,757 acres; primarily public surface); and

Alternative 3 (Agency Preferred Alternative): Amends the existing RMP by allowing overhead power lines along roads on BLM surface, applies elk security habitat standards developed jointly by the BLM and WGFD, establishes standards for performance based mitigation, and does not designate any area as an ACEC.

There are no ACECs in the existing BFO land use plan. As proposed in the Draft RMPA/EA, there is potential for designation of a Fortification Creek ACEC. Values of concern include steep slopes, erosive soils, elk habitat, cultural resources, and visual resources.

When commenting, please include reference to either the page or section in the Draft RMPA/EA to which the comment applies. To facilitate analysis of comments and information submitted, the BLM encourages those individuals submitting comments to submit them in electronic format.

Please note that public comments and information submitted including names, street addresses, and e-il addresses of respondents will be available for public review and disclosure at the above address during regular business hours (8 a.m. to 4 p.m.), Monday through Friday, except holidays.

Before including your address, phone number, e-mail address, or other personal identifying information in your comment, you should be aware that your entire comment—including your personal identifying information-may be made publicly available at any time. While you may ask us in your comment to withhold your personal identifying information from public review, we cannot guarantee that we will be able to do so.

Donald A. Simpson,
State Director.

[FR Doc. 2010-23330 Filed 9-16-10; 8:45 am]

BILLING CODE 4310-22-P